DEPARTMENT OF COMMERCE

National Oceanic and Atmospheric Administration

RIN 0648-XC657

Pacific Fishery Management Council; Public Meeting

AGENCY: National Marine Fisheries Service (NMFS), National Oceanic and Atmospheric Administration (NOAA), Commerce.

ACTION: Notice; public meeting.

SUMMARY: The Pacific Fishery Management Council's (Pacific Council) Highly Migratory Species Management Team (HMSMT) will hold a conference call, which is open to the public.

DATES: The HMSMT conference call will begin at 1 p.m. on Wednesday, May 22, 2013, and last for approximately one and a half hours. There will be public listening stations at the Council office and Southwest Fishery Science Center (see ADDRESSES, below).

ADDRESSES: Southwest Fishery Science Center address: 8901 La Jolla Shores Drive, La Jolla, CA 92037.

Council address: Pacific Council, 7700 NE Ambassador Place, Suite 101, Portland, OR 97220-1384.

FOR FURTHER INFORMATION CONTACT: Dr. Kit Dahl, Pacific Council; telephone: (503) 820-2280.

SUPPLEMENTARY INFORMATION: The HMSMT requested further guidance on an assignment from the March 2013 Council meeting in Tacoma, WA. The Pacific Council directed the HMSMT to identify potential measures that should be implemented pursuant to the precautionary management framework for North Pacific albacore currently under development at the international level. The HMSMT will discuss further guidance with Pacific Council and NMFS staff during the conference call. The HMSMT will hold a separate meeting to prepare a report with recommendations on this topic for the June 20-25, 2013, Pacific Council meeting.

Although nonemergency issues not contained in the meeting agenda may be discussed, those issues may not be the subject of formal action during the meeting. Action will be restricted to those issues specifically listed in this document and any issues arising after publication of this document that require emergency action under section 305(c) of the Magnuson-Stevens Fishery Conservation and Management Act, provided the public has been notified of the intent to take final action to address the emergency.

Special Accommodations

The meeting is physically accessible to people with disabilities. Requests for sign language interpretation or other auxiliary aids should be directed to Mr. Kris Kleinschmidt at (503) 820-2280 at least 5 days prior to the meeting date.

Dated: April 30, 2013.
Tracey L. Thompson,
Acting Deputy Director, Office of Sustainable Fisheries, National Marine Fisheries Service.

[FR Doc. 2013-10520 Filed 5-2-13; 8:45 am]

BILLING CODE 3510-22-P